NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by February 11, 2022. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Polly Penhale, ACA Permit Officer, at the above address, 703-292-8030.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2022-028.

1. Applicant: Jonathan Hong, COO XM2 Aerial Pty Ltd., 15143 Waterman Dr., Van Nuys CA 91406.

Activity for Which Permit is Requested: Waste Management. The applicant seeks an Antarctic Conservation Act permit for waste management activities associated with the use of Unmanned Aerial Systems (UAS) in Antarctica. The applicant proposes using multiple UAS for commercial filmmaking purposes in areas surrounding the Antarctica Peninsula. UAS are only to be flown by pre-approved pilots with extensive flight experience. The applicant includes various mitigation measures to limit potential impacts to the environment. These measures include the following: Safety measures that minimize the risk of equipment failure, using observers to maintain visual line of sight with the aircraft and to aid in possible retrieval, not flying above any concentrations of wildlife and disinfecting UAVs after flight to prevent possible contamination between operation sites. The applicant seeks a waste permit to cover any accidental release that may result from UAS use.

Location: Antarctic Peninsula Region.

Dates of Permitted Activities: March 1, 2022-February 28, 2023.

Erika N. Davis,
Program Specialist, Office of Polar Programs.

[FR Doc. 2022-00445 Filed 1-11-22; 8:45 am]

BILLING CODE 7555-01-P